DEPARTMENT OF COMMERCE

National Oceanic and Atmospheric Administration

RIN 0648-XA962

Gulf of Mexico Fishery Management Council; Public Meeting

AGENCY: National Marine Fisheries Service (NMFS), National Oceanic and Atmospheric Administration (NOAA), Commerce.

ACTION: Council to convene a public meeting.

SUMMARY: The Gulf of Mexico Fishery Management Council will convene a meeting of the Shrimp Stock Assessment Workshop.

DATES: The meeting will convene at 8:30 a.m.-5 p.m. daily on Tuesday, February 14 through Thursday, February 16, 2012.

ADDRESSES: The meeting will be held at the NOAA Fisheries Galveston Laboratory, 4700 Avenue U, Galveston, TX 77551-5997.

Council address: Gulf of Mexico Fishery Management Council, 2203 N. Lois Avenue, Suite 1100, Tampa, FL 33607.

FOR FURTHER INFORMATION CONTACT: Dr. Richard Leard, Deputy Executive Director/Senior Fishery Biologist; Gulf of Mexico Fishery Management Council; telephone: (813) 348-1630.

SUPPLEMENTARY INFORMATION: The Shrimp Stock Assessment Review Workshop will evaluate the data used in the assessment and whether data uncertainties acknowledged/reported are within normal or expected levels, e.g., recruitment deviations; whether data were applied properly within the assessment model; are input data series reliable and sufficient to support the assessment approach and findings; whether selectivity functions are acceptable and biologically realistic for both fisheries independent and dependent data. The Workshop will also evaluate the assessment findings with respect to the following: Are abundance, exploitation, and biomass estimates reliable and consistent with input data and population biological characteristics, and useful to support status inferences; are quantitative estimates of the status determination criteria for this stock reliable; consider how uncertainties in the assessment, and their potential consequences, are addressed, e.g., sensitivity analysis runs. A Panel Review Report summarizing the evaluation of the stock assessment and addressing each Term of Reference will be developed along with a list of tasks to be completed following the workshop.

Note: The Workshop will address the aforementioned issues for each of the three shrimp species (brown, white, and pink), and a separate Panel Review Report for each species will be developed.

Copies of the agenda and other related materials can be obtained by calling (813) 348-1630.

Although other non-emergency issues not on the agenda may come before the Scientific and Statistical Committee's workgroup for discussion, in accordance with the Magnuson-Stevens Fishery Conservation and Management Act, those issues may not be the subject of formal action during this meeting. Actions will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Council (see ADDRESSES) at least 5 working days prior to the meeting.

Dated: January 24, 2012.
Tracey L. Thompson,
Acting Director, Office of Sustainable Fisheries, National Marine Fisheries Service.

[FR Doc. 2012-1748 Filed 1-26-12; 8:45 am]

BILLING CODE 3510-22-P